DEPARTMENT OF DEFENSE

Office of the Secretary

[Transmittal No. 11-32]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 11-32 with attached transmittal, policy justification, and Sensitivity of Technology.

Dated: July 28, 2011.
Aaron Siegel,
Alternate OSD Federal Register Liaison Officer, Department of Defense.

BILLING CODE 5001-06-P

BILLING CODE 5001-06-C

Transmittal No. 11-32, Notice of Proposed Issuance of Letter of Offer, Pursuant to Section 36(b)(1) Of the Arms Export Control Act, as amended.

(i) Prospective Purchaser: Poland

(ii) Total Estimated Value:

Major Defense Equipment:* $45 million

Other: $155 million

TOTAL: $200 million

(iii) Description and Quantity or Quantities of Articles or Services under Consideration for Purchase: provides follow-on technical support and a Service Life Extension Program for the upgrade and conversion of MK15 PHALANX Close-In Weapon Systems (CIWS) aboard two ex-FFG-7 Class Frigates from the Block 0 to Block 1B, Baseline 2 configuration, spare and repair parts, support and test equipment, publications and technical documentation, system overhauls and upgrades, personnel training and training equipment, U.S. Government and contractor technical support, and other related elements of program support.

(iv) Military Department: Navy (LAR)

(v) Prior Related Cases:

FMS case GAD-$6M-23Mar00

FMS case GAL-$10M-18Apr02

(vi) Sales Commission, Fee, etc., Paid, offered, or Agreed to be Paid: None

(vii) Sensitivity of Technology Contained in the Defense Article or Defense Services Proposed to be Sold: None

(viii) Date Report Delivered to Congress: 26 July 2011

* as defined in Section 47(6) of the Arms Export Control Act.

POLICY JUSTIFICATION

Poland—Service Life Extension Program for ex-FFG-7 Class Frigates

The Government of Poland has requested a possible sale to provide follow-on technical support and a Service Life Extension Program for the upgrade and conversion of MK15 PHALANX Close-In Weapon Systems (CIWS) aboard two ex-FFG-7 Class Frigates from the Block 0 to Block 1B, Baseline 2 configuration, spare and repair parts, support and test equipment, publications and technical documentation, system overhauls and upgrades, personnel training and training equipment, U.S. Government and contractor technical support, and other related elements of program support. The estimated cost is $200 million.

Poland is one of our important allies in Northern Europe, contributing to NATO activities and ongoing U.S. interests in the pursuit of peace and stability. Poland's efforts in peacekeeping operations in Iraq and Afghanistan have served U.S. national security interests. It is vital to the U.S. national interest to assist Poland to develop and maintain a strong and ready self-defense capability.

The proposed sale will improve Poland's capability to meet current and future operational needs. Poland already has the capability to maintain the current Frigates and will have no difficulty absorbing the upgraded shipboard systems into its armed forces.

The proposed sale of this equipment and support will not alter the basic military balance in the region.

The proposed sale will involve multiple contractors, as well as U.S. Atlantic Coast shipyards who will compete for planning and execution of the system overhaul and upgrade projects. There are no known offset agreements proposed in connection with this potential sale.

Implementation of this proposed sale will not require the assignment of any additional U.S. Government or contractor representatives to Poland. However, periodic travel to Poland will be required on a temporary basis in conjunction with program, technical, and management oversight and support requirements.

There will be no adverse impact on the U.S. defense readiness as a result of this proposed sale.

[FR Doc. 2011-19557 Filed 8-2-11; 8:45 am]

BILLING CODE 5001-06-P